NATIONAL SCIENCE FOUNDATION (NSF)

Sunshine Act Meetings; National Science Board

The National Science Board, pursuant to NSF regulations (45 CFR part 614), the National Science Foundation Act, as amended (42 U.S.C. 1862n-5), and the Government in the Sunshine Act (5 U.S.C. 552b), hereby gives notice of the scheduling of meetings for the transaction of National Science Board business, as follows:

DATE AND TIME: August 13, 2014 from 8:30 a.m. to 4:30 p.m., and August 14 from 8:00 a.m. to 3:00 p.m.

PLACE: These meetings will be held at the National Science Foundation, 4201Wilson Blvd., Rooms 1235, Arlington, VA 22230. All visitors must contact the Board Office (call 703-292-7000 or send an email message to nationalsciencebrd@nsf.gov) at least 24 hours prior to the meeting and provide name and organizational affiliation. Visitors must report to the NSF visitor desk located in the lobby at the 9th and N. Stuart Streets entrance to receive a visitor's badge.

WEBCAST INFORMATION: Public meetings and public portions of meetings will be webcast. To view the meetings, go to http://www.tvworldwide.com/events/nsf/140813/ and follow the instructions.

UPDATES: Please refer to the National Science Board Web site for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Nadine Lymn, nlymn@nsf.gov, (703) 292-2490.

STATUS: Portions open; portions closed.

OPEN SESSIONS:

August 13, 2014

8:30-8:45 a.m. (Chairman's introduction)

8:45-10:15 a.m. (CPP)

10:30-11:00 a.m. (AB)

11:00-11:20 a.m. (Plenary—presentation)

12:30-1:00 p.m. (A&O)

2:00-2:30 p.m. (SCF)

2:30-2:45 p.m. (CSB)

August 14, 2014

8:00-9:30 a.m. (SEI)

1:30-3:00 p.m. (Plenary)

CLOSED SESSIONS:

August 13, 2014

1:00-1:45 p.m. (A&O)

2:45-3:30 p.m. (CSB)

3:30-4:30 (CPP)

August 14, 2014

9:45-11:30 a.m. (Plenary)

12:30-1:30 p.m. (second part of Plenary)

MATTERS TO BE DISCUSSED:

Wednesday, August 13, 2014

Committee on Programs and Plans (CPP)

Open Session: 8:45-10:15 a.m.

• Approval of open CPP minutes for May 2014

• Committee Chairman's remarks

• CPP Program Portfolio Planning: Social, Behavioral and Economic Science at NSF

Task Force on Administrative Burdens (AB)

Open Session: 10:30-11:00 a.m.

• Committee Chairman's remarks

• Discussion Item: Future activities related to Task Force report on Administrative Burdens

Plenary Board Meeting

Open Session: 11:00-11:20 a.m.

• Presentation by Waterman Award Recipient, Dr. Feng Zhang

Audit and Oversight Committee (A&O)

Open Session: 12:30-1:00 p.m.

• Approval of May 6, 2014 meeting minutes

• Committee Chairman's opening remarks

• Inspector General's update

• Chief Financial Officer's update

• Committee Chairman's closing remarks

Audit and Oversight Committee

Closed Session: 1:00-1:45 p.m.

• Committee Chairman's opening remarks

• Future NSF update

• OIG FY 2016 budget request

• Chairman's closing remarks

CSB Subcommittee on Facilities (SCF)

Open Session: 2:00-2:30 p.m.

• Committee Chairman's remarks and approval of the open and closed May 2014 meeting minutes, and the April 17, 2014 teleconference meeting minutes

• Discussion of FY 2013 APR recommendations

• Discussion of FY 2014 APR

Committee on Strategy and Budget (CSB)

Open Session: 2:30-2:45 p.m.

• Committee Chairman's remarks

• Approval of CSB open minutes for the May 2014 meeting

• NSF FY 2015 budget update

Committee on Strategy and Budget (CSB)

Closed Session: 2:45-3:30 p.m.

• Committee Chairman's remarks

• Approval of CSB closed minutes for the May 2014 meeting

• Proposed FY 2016 NSB budget

• Proposed FY 2016 NSF budget

Committee on Programs and Plans (CPP)

Closed Session: 3:30-4:30 p.m.

• Committee Chairman's remarks

• Approval of closed CPP minutes for May 2014

• NSB Action Item: Renewal of the cooperative agreement for Management and Operation of the National Solar Observatory (NSO)

• NSB Information Item: The iPlant Collaborative: Cyberinfrastructure for the Life Sciences

Thursday, August 14, 2014

Committee on Science & Engineering Indicators (SEI)

Open Session: 8:00-9:30 a.m.

• Chairman's introduction and approval of the May 2014 meeting minutes

• Overview of the Science and Engineering Indicators 2016 production process

• Introduction of chapter authors and discussion of the Science and Engineering Indicators 2016 narrative outlines

• Chairman's closing remarks

Plenary Board Meeting

Closed Session: 9:45-11:30 a.m., 12:30-1:30 p.m.,

• Approval of closed session minutes, May 2014

• Discussion on risks to NSF

• Chairman's report

• Awards and Agreements/CPP Action Item

• Closed committee reports

• Chairman's remarks

Plenary Board Meeting

Open Session: 1:30-3:00 p.m.

• Approval of open session minutes, May 2014

• Chairman's report

• Director's report

• Open committee reports

• Chairman's remarks

MEETING ADJOURNS: 3:00 p.m.

Ann Bushmiller,
Senior Counsel to the National Science Board.

[FR Doc. 2014-18791 Filed 8-5-14; 4:15 pm]

BILLING CODE 7555-01-P